SMALL BUSINESS ADMINISTRATION

[Disaster Declaration #17196 and #17197; CALIFORNIA Disaster Number CA-00347]

Presidential Declaration Amendment of a Major Disaster for Public Assistance Only for the State of California

AGENCY: U.S. Small Business Administration.

ACTION: Amendment 1.

SUMMARY: This is an amendment of the Presidential declaration of a major disaster for Public Assistance Only for the State of California (FEMA-4610-DR), dated 09/24/2021.

Incident: Wildfires.

Incident Period: 07/14/2021 through 10/25/2021.

DATES: Issued on 11/10/2021.

Physical Loan Application Deadline Date: 11/23/2021.

Economic Injury (EIDL) Loan Application Deadline Date: 06/24/2022.

ADDRESSES: Submit completed loan applications to:U.S. Small Business Administration,Processing and Disbursement Center,14925 Kingsport Road,Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of California, dated 09/24/2021, is hereby amended to establish the incident period for this disaster as beginning 07/14/2021 through 10/25/2021.

All other information in the original declaration remains unchanged.

(Catalog of Federal Domestic Assistance Number 59008)

James Rivera,
Associate Administrator for Disaster Assistance.

[FR Doc. 2021-25282 Filed 11-18-21; 8:45 am]

BILLING CODE 8026-03-P